DEPARTMENT OF ENERGY

Southeastern Power Administration

Proposed Rate Adjustment, Public Forum, and Opportunities for Public Review and Comment for Cumberland System of Projects

AGENCY: Southeastern Power Administration, DOE.

ACTION: Notice of proposed rates.

SUMMARY: Southeastern Power Administration (Southeastern) proposes to replace Rate Schedules SJ-1-A, CBR-1-D, CSI-1-D, CK-1-D, CC-1-E, CM-1-D, CEK-1-D, and CTV-1-D applicable to the sale of power from the Cumberland System of Projects and seeks approval of Rate Schedules SJ-1-B, CBR-1-E, CSI-1-E, CK-1-E, CC-1-F, CM-1-E, CEK-1-E, and CTV-1-E. The new rate schedules are to be effective for a 5-year period, October 1, 2003, through September 30, 2008. Additionally, opportunities will be available for interested persons to review the present rates, the proposed rates and supporting studies, to participate in a forum and to submit written comments. Southeastern will evaluate all comments received in this process.

DATES: Written comments are due on or before June 23, 2003. A public information and comment forum will be held in Nashville, Tennessee on May 1, 2003, at 10 a.m. Persons desiring to speak at a forum should notify Southeastern at least three days before the forum is scheduled, so that a list of forum participants can be prepared. Others may speak if time permits.

ADDRESSES: Written comments should be submitted to: Administrator, Southeastern Power Administration, Department of Energy, 1166 Athens Tech Road, Elberton, Georgia, 30635-6711. The public information and comment forum will be held at the Doubletree Hotel, 315 Fourth Avenue, North, Nashville, TN, (615) 244-8200.

FOR FURTHER INFORMATION CONTACT: Leon Jourolmon, Assistant Administrator, Finance and Marketing, Southeastern Power Administration, Department of Energy, 1166 Athens Tech Road, Elberton, Georgia, 30635-6711, (706) 213-3800.

SUPPLEMENTARY INFORMATION: The Federal Energy Regulatory Commission (FERC) by order issued March 17, 2000, in Docket No. EF99-3021-000, confirmed and approved Wholesale Power Rate Schedules SJ-1-A, CBR-1-D, CSI-1-D, CK-1-D, CC-1-E, CM-1-D, CEK-1-D, and CTV-1-D applicable to Cumberland System power for a period ending June 30, 2004. On May 12, 2000, FERC issued an order granting rehearing for further consideration. On June 15, 2000, FERC issued an order denying rehearing.

Discussion: Existing rate schedules are predicated upon a May 1999 repayment study and other supporting data contained in FERC Docket No. EF99-3021-000. The current repayment study, dated March 2003, shows that existing rates are not adequate to recover all costs required by present repayment criteria.

A revised repayment study with a revenue increase of $8,063,000 over the current repayment study demonstrates that rates would be adequate to meet repayment criteria. The additional revenue requirement amounts to a 20 per cent increase in revenues. Existing rates have been in effect since July 1, 1999. The Cumberland System region has incurred a severe drought since that time. This has impacted repayment in two ways. First, revenues have been reduced because Southeastern has had less energy available for sale. Second, expenses have increased because it has been necessary for Southeastern to purchase replacement energy to meet its minimum energy obligations.

The Corps of Engineers has provided Southeastern with a plan of capital expenditures necessary to rehabilitate the projects in the Cumberland System. These costs are included in the proposed rates. It is proposed that the revised rate schedules contain the following unit rates:

Cumberland System Rates
TVA Rate Schedule: |
Capacity | $2.04 per kw/month.
Additional Energy | 9.313 mills per kwh.
Outside Preference Customers Rate Schedule (Excluding Customers served through Carolina Power & Light Company): |
Capacity | $3.506 per kw/month.
Additional Energy | 9.313 mills per kwh.
Customers Served through Carolina Power & Light Company, Western Division |
Capacity | $3.991 per kw/month.
Transmission | $1.2493 per kw/month.
Monongahela Power Company: |
Energy | The lower of 39.2 mills or Monongahela Power Company's avoided cost.

The referenced repayment studies are available for examination at 1166 Athens Tech Road, Elberton, Georgia 30635-6711. Proposed Rate Schedules SJ-1-B, CBR-1-E, CSI-1-E, CK-1-E, CC-1-F, CM-1-E, CEK-1-E, and CTV-1-E are also available.

Dated: March 6, 2003.
Charles A. Borchardt,
Administrator.

[FR Doc. 03-7027 Filed 3-24-03; 8:45 am]

BILLING CODE 6450-01-P